FEDERAL COMMUNICATIONS COMMISSION

47 CFR Parts 0, 1, 2, 3, 11, 15, 20, 24, 25, 27, 52, 64, 67, 68, 73, 74, 76, 79, 80, 87, 90, 95, and 101

[DA 20-718; FRS 17030]

Rule Modifications Reflecting New Address Location of Commission Headquarters

AGENCY: Federal Communications Commission.

ACTION: Final rule.

SUMMARY: In this document, the Office of Managing Director of the Federal Communications Commission (Commission) adopts an Order that amends the Commission's rules to reflect the upcoming new address of the Commission's headquarters, 45 L Street NE, Washington, DC 20554. It also makes changes to clarify that certain documents are now available for inspection through the Commission's website, removes references to a Commission copy contractor, and performs minor formatting corrections.

DATES: Effective October 13, 2020.

FOR FURTHER INFORMATION CONTACT: Warren Firschein, Office of Managing Director at (202) 418-2653 or Mindy Ginsburg, Office of Managing Director at (202) 418-0983.

SUPPLEMENTARY INFORMATION: This is a summary of the Commission's Order, DA 20-718, adopted and released on August 5, 2020. The full text of this document is available by downloading the text from the Commission's website at https://docs.fcc.gov/public/attachments/DA-20-718A1.pdf.

Synopsis

I. Administrative Matters

A. Final Regulatory Flexibility Analysis

1. Section 603 of the Regulatory Flexibility Act, as amended, requires a regulatory flexibility analysis in notice and comment rulemaking proceedings. See 5 U.S.C. 603(a). As we are adopting these rules without notice and comment, no regulatory flexibility analysis is required.

B. Final Paperwork Reduction Act of 1995 Analysis

2. This document does not contain new or modified information collection requirements subject to the Paperwork Reduction Act of 1995 (PRA), Public Law 104-13. In addition, therefore, it does not contain any new or modified information collection burden for small business concerns with fewer than 25 employees, pursuant to the Small Business Paperwork Relief Act of 2002, Public Law 107-198, see 44 U.S.C. 3506(c)(4).

C. Congressional Review Act

3. The Commission will not send a copy of the Order pursuant to the Congressional Review Act, see 5 U.S.C. 801(a)(1)(A), because the adopted rules are rules of agency organization, procedure, or practice that do not “substantially affect the rights or obligations of non-agency parties.” See 5 U.S.C. 804(3)(C).

II. Introduction

4. In the Order, the Office of Managing Director of the Federal Communications Commission amends the Commission's rules to reflect the upcoming new address for the Commission's headquarters, 45 L Street NE, Washington, DC 20554 in light of the Commission's upcoming move to a new headquarters building.¹ In addition, the Order clarifies that certain documents are now available for inspection through the Commission's website, removes references to a Commission copy contractor, and performs minor formatting corrections. Finally, the Order notes that in a separate order released on May 28, 2020, the Commission's rules were amended to reflect the new address for filing hand-carried documents at the FCC's headquarters and establish a new closing time for accepting such filings. Those changes remain in effect and are not impacted by the actions here.

¹ The Commission's new headquarters is still under construction. Neither the Order, this summary, nor the rules amended constitute acceptance by the Commission or GSA of the new headquarters building.

5. This action is taken pursuant to the authority delegated by §§ 0.11 and 0.231 of the Commission's rules, 47 CFR 0.11 and 0.231.

III. Ordering CLAUSES

6. Accordingly, pursuant to sections 4(e) and 5(e) of the Communications Act of 1934, as amended, 47 U.S.C. 154(e) and 155(d), it is ordered that the respective parts of the Commission's rules are amended in the manner indicated in the Appendix of the Order, to be effective 30 days after publication in the Federal Register.

List of Subjects in 47 CFR Parts 0, 1, 2, 3, 11, 15, 20, 24, 25, 27, 52, 64, 67, 68, 73, 74, 76, 79, 80, 87, 90, 95, and 101

Administrative practice and procedure.

Federal Communications Commission.

Marlene Dortch,
Secretary, Office of the Secretary.

Final Rules

For the reasons discussed in the preamble, the Federal Communications Commission amends 47 CFR parts 0, 1, 2, 3, 11, 15, 20, 24, 25, 27, 52, 64, 67, 68, 73, 74, 76, 79, 80, 87, 90, 95, and 101 as follows:

PART 0—COMMISSION ORGANIZATION

1. The authority citation for part 0 continues to read as follows:

Authority: 47 U.S.C. 155, 225, unless otherwise noted.

2. Amend § 0.401 by revising paragraphs (a)(1) introductory text, (a)(1)(i), and (a)(5) to read as follows:

§ 0.401 Location of Commission offices.

* * * * *

(a) * * *

(1) The main office of the Commission is located at 45 L Street NE, Washington, DC 20554.

(i) Documents submitted by mail to this office should be addressed to: Federal Communications Commission, Washington, DC 20554.

* * * * *

(5) The location of the Office of General Counsel is 45 L Street NE, Washington, DC 20554.

* * * * *

3. Amend § 0.434 by revising the third sentence to read as follows:

§ 0.434 Data bases and lists of authorized broadcast stations and pending broadcast applications.

* * * The lists are available for public inspection at the FCC's main office, located at the address indicated in § 0.401(a). * * *

4. Amend § 0.441 by revising paragraphs (a)(4) and (5) to read as follows:

§ 0.441 General.

(a) * * *

(4) Correspondence to: Consumer and Governmental Affairs Bureau at the FCC's main office, located at the address indicated in § 0.401(a).

(5) Visiting the Reference Information Center of the Consumer and Governmental Affairs Bureau, located at the address indicated in § 0.401(a).

* * * * *

5. Amend § 0.461 by adding a colon at the end of paragraph (d)(1) introductory text and revising paragraphs (d)(1)(i) and (ii) to read as follows:

§ 0.461 Requests for inspection of materials not routinely available for public inspection.

* * * * *

(d)(1) * * *

(i) Filed electronically through the internet at http://foiaonline.regulations.gov/; or

(ii) Delivered or mailed to the Managing Director at the address indicated in § 0.401(a), Attn: FOIA Request.

* * * * *

6. Amend § 0.556 in paragraph (a) introductory text by removing “this paragraph” and adding “this paragraph (a)” in its place and revising the third sentence to read as follows:

§ 0.556 Request to correct or amend records.

(a) * * * Requests to amend the official personnel records of active FCC employees should be submitted to the Associate Managing Director—Human Resources Management, at the address indicated in § 0.401(a). * * *

* * * * *

7. Revise § 0.558 to read as follows:

§ 0.558 Advice and assistance.

(a) Individuals who have questions regarding the procedures contained in this subpart for gaining access to a particular system of records or for contesting the contents of a record, either administratively or judicially, should write or call the Privacy Liaison Officer located at the address indicated in § 0.401(a), Attn: Office of General Counsel.

(b) Individuals who request clarification of the Notice described in § 0.552 or who have questions concerning the characterization of specific systems of records as set forth in § 0.552, should write or call the Privacy Liaison Officer at the address indicated in § 0.401(a), directed to the Performance Evaluation and Records Management.

PART 1—PRACTICE AND PROCEDURE

8. The authority citation for part 1 continues to read as follows:

Authority: 47 U.S.C. chs. 2, 5, 9, 13; 28 U.S.C. 2461, unless otherwise noted.

9. Amend § 1.13 by revising the first sentence of paragraph (a)(2) to read as follows:

§ 1.13 Filing of petitions for review and notices of appeals of Commission orders.

(a) * * *

(2) If a party wishes to avail itself of procedures established for selection of a court in the case of multiple petitions for review of the same Commission action, pursuant to 28 U.S.C. 2112(a), but is unable to use email to effect service as described in paragraph (a)(1) of this section, it shall instead, within ten days after the issuance of the order on appeal, serve a copy of its petition for review in person on the General Counsel in the Office of General Counsel, located at the FCC's main office address indicated in 47 CFR 0.401(a). * * *

* * * * *

10. Revise § 1.403 to read as follows:

§ 1.403 Notice and availability.

All petitions for rulemaking (other than petitions to amend the FM, Television, and Air-Ground Tables of Assignments) meeting the requirements of § 1.401 will be given a file number and, promptly thereafter, a “Public Notice” will be issued (by means of a Commission release entitled “Petitions for Rule Making Filed”) as to the petition, file number, nature of the proposal, and date of filing. Petitions for rulemaking are available at the Commission's Reference Information Center at the FCC's main office, located at the address indicated in 47 CFR 0.401(a), and may also be available electronically over the internet at http://www.fcc.gov/.

11. Amend § 1.773 by revising the first sentence of paragraphs (a)(4) and (b)(3) to read as follows:

§ 1.773 Petitions for suspension or rejection of new tariff filings.

(a) * * *

(4) * * * An original and four copies of each petition shall be filed with the Commission as follows: the original and three copies of each petition shall be filed with the Secretary at the FCC's main office, located at the address indicated in 47 CFR 0.401(a). * * *

(b) * * *

(3) * * * An original and four copies of each reply shall be filed with the Commission as follows: the original and three copies must be filed with the Secretary at the FCC's main office, located at the address indicated in 47 CFR 0.401(a). * * *

12. Amend § 1.939 by revising the second sentence of paragraph (b) to read as follows:

§ 1.939 Petitions to deny.

* * * * *

(b) * * * Manually filed petitions to deny must be filed with the Office of the Secretary at the FCC's main office, located at the address indicated in 47 CFR 0.401(a). * * *

* * * * *

13. Amend § 1.1120 in paragraph (a) by removing ”) of this subpart” and revising the last sentence to read as follows:

§ 1.1120 Error claims.

(a) * * * These claims should be addressed to the Federal Communications Commission at the address indicated in 47 CFR 0.401(a), Attention: Financial Operations, or emailed to ARINQUIRIES@fcc.gov.

* * * * *

14. Amend § 1.1705 by revising paragraph (c)(4) to read as follows:

§ 1.1705 Forms; electronic and manual filing.

* * * * *

(c) * * *

(4) Manual filings that do not require fees must be addressed and sent to the Media Bureau at the FCC's main office, located at the address indicated in 47 CFR 0.401(a).

* * * * *

15. Amend § 1.1870 by revising paragraphs (c) and (i) to read as follows:

§ 1.1870 Compliance procedures.

* * * * *

(c) Address for filing complaints. Complaints alleging violation of section 504 with respect to the Commission's programs and activities shall be addressed to the Managing Director and filed with the Office of the Secretary at the FCC's main office, located at the address indicated in 47 CFR 0.401(a).

* * * * *

(i) Address for filing appeals. Timely appeals shall be accepted and processed by the Office of the Secretary at the FCC's main office, located at the address indicated in 47 CFR 0.401(a).

* * * * *

16. Amend § 1.1953 by revising paragraph (a) to read as follows:

§ 1.1953 Interagency requests.

(a) Requests to the Commission by other Federal agencies for administrative or salary offset shall be in writing and forwarded to the Financial Operations Center at the FCC's main office, located at the address indicated in 47 CFR 0.401(a).

* * * * *

17. Amend § 1.4000 by revising paragraph (h) to read as follows:

§ 1.4000 Restrictions impairing reception of television broadcast signals, direct broadcast satellite services or multichannel multipoint distribution services.

* * * * *

(h) All allegations of fact contained in petitions and related pleadings before the Commission must be supported by affidavit of a person or persons with actual knowledge thereof. An original and two copies of all petitions and pleadings should be addressed to the Secretary at the FCC's main office, located at the address indicated in 47 CFR 0.401(a). Copies of the petitions and related pleadings will be available for public inspection in the Reference Information Center, Consumer and Governmental Affairs Bureau, located at the address of the FCC's main office indicated in 47 CFR 0.401(a).

PART 2—FREQUENCY ALLOCATIONS AND RADIO TREATY MATTERS; GENERAL RULES AND REGULATIONS

18. The authority citation for part 2 continues to read as follows:

Authority: 47 U.S.C. 154, 302a, 303, and 336, unless otherwise noted.

19. Amend § 2.910 by revising the fourth sentence of paragraph (a) to read as follows:

§ 2.910 Incorporation by reference.

(a) * * * All approved material is available for inspection at the Federal Communications Commission, located at the address indicated in 47 CFR 0.401(a), Tel: (202) 418-0270, and is available from the sources listed in this section. * * *

* * * * *

PART 3—AUTHORIZATION AND ADMINISTRATION OF ACCOUNTING AUTHORITIES IN MARITIME AND MARITIME MOBILE-SATELLITE RADIO SERVICES

20. The authority citation for part 3 continues to read as follows:

Authority: 47 U.S.C. 154(i), 154(j) and 303(r).

21. Revise § 3.61 to read as follows:

§ 3.61 Reporting address.

All reports must be received at the following address no later than the required reporting date: Accounting Authority Certification Officer, Financial Operations Center, Federal Communications Commission, at the address indicated in 47 CFR 0.401(a).

PART 11—EMERGENCY ALERT SYSTEM (EAS)

22. The authority citation for part 11 continues to read as follows:

Authority: 47 U.S.C. 151, 154 (i) and (o), 303(r), 544(g) and 606.

23. Amend § 11.51 by revising the third sentence of paragraph (p) introductory text and adding a reserved paragraph (p)(2) to read as follows:

§ 11.51 EAS code and Attention Signal Transmission requirements.

* * * * *

(p) * * * All approved material is available for inspection at the Federal Communications Commission, located at the address indicated in 47 CFR 0.401(a) (Reference Information Center), and is available from the source indicated in this paragraph (p). * * *

* * * * *

24. Amend § 11.56 by revising the third sentence of paragraph (d) introductory text to read as follows:

§ 11.56 Obligation to process CAP-formatted EAS messages.

* * * * *

(d) * * * All approved material is available for inspection at the Federal Communications Commission, located at the address indicated in 47 CFR 0.401(a) (Reference Information Center), and is available from the sources indicated in this paragraph (d). * * *

* * * * *

PART 15—RADIO FREQUENCY DEVICES

25. The authority citation for part 15 continues to read as follows:

Authority: 47 U.S.C. 154, 302a, 303, 304, 307, 336, 544a, and 549.

26. Amend § 15.38 by revising the fourth sentence of paragraph (a) to read as follows:

§ 15.38 Incorporation by reference.

(a) * * * The materials are available for purchase at the corresponding addresses as noted, and all are available for inspection at the Federal Communications Commission, located at the address indicated in 47 CFR 0.401(a), Tel: (202) 418-0270, and at the National Archives and Records Administration (NARA). * * *

* * * * *

27. Amend § 15.240 by revising the sixth sentence of paragraph (f) to read as follows:

§ 15.240 Operation in the band 433.5-434.5 MHz.

* * * * *

(f) * * * The material shall be submitted to the following address: Experimental Licensing Branch, OET, Federal Communications Commission, at the address of the FCC's main office indicated in 47 CFR 0.401(a), ATTN: RFID Registration.

28. Amend § 15.525 by revising the fifth sentence of paragraph (b) to read as follows:

§ 15.525 Coordination requirements.

* * * * *

(b) * * * This material shall be submitted to Frequency Coordination Branch, OET, Federal Communications Commission, at the address of the FCC's main office indicated in 47 CFR 0.401(a), ATTN: UWB Coordination.

* * * * *

PART 20—COMMERCIAL MOBILE SERVICES

29. The authority citation for part 20 continues to read as follows:

Authority: 47 U.S.C. 151, 152(a) 154(i), 157, 160, 201, 214, 222, 251(e), 301, 302, 303, 303(b), 303(r), 307, 307(a), 309, 309(j)(3), 316, 316(a), 332, 610, 615, 615a, 615b, 615c, unless otherwise noted.

30. Amend § 20.19 by:

a. Revising paragraph (b)(4);

b. Adding a heading for paragraph (l); and

c. Revising the second sentence of paragraph (l) introductory text.

The revisions and addition read as follows:

§ 20.19 Hearing aid-compatible mobile handsets.

* * * * *

(b) * * *

(4) Questions of fact. All factual questions of whether a wireless handset meets the technical standard(s) of this paragraph (b) shall be referred for resolution to the Chief, Office of Engineering and Technology, Federal Communications Commission, at the address of the FCC's main office indicated in 47 CFR 0.401(a).

* * * * *

(l) Incorporation by reference. * * * All approved material is available for inspection at the Federal Communications Commission (FCC), Reference Information Center, Room CY-A257, at the address of the FCC's main office indicated in 47 CFR 0.401(a), Tel: (202) 418-0270, and is available from the source indicated in this paragraph (l). * * *

* * * * *

PART 24—PERSONAL COMMUNICATIONS SERVICES

31. The authority citation for part 24 continues to read as follows:

Authority: 47 U.S.C. 154, 301, 302, 303, 309 and 332.

32. Amend § 24.102 by revising the fourth sentence of the introductory text to read as follows:

§ 24.102 Service areas.

* * * The MTA Map is available on the FCC's website at www.fcc.gov/auctions through the “Maps” submenu.

* * * * *

33. Amend § 24.202 by revising the fourth sentence of the introductory text to read as follows:

§ 24.202 Service areas.

* * * The BTA/MTA Map is available is available on the FCC's website at www.fcc.gov/auctions through the “Maps” submenu.

* * * * *

PART 25—SATELLITE COMMUNICATIONS

34. The authority citation for part 25 continues to read as follows:

Authority: 47 U.S.C. 154, 301, 302, 303, 307, 309, 310, 319, 332, 605, and 721, unless otherwise noted.

35. Amend § 25.108 by revising the second sentence of paragraph (a) to read as follows:

§ 25.108 Incorporation by reference.

(a) * * * All approved material is available for inspection at the Federal Communications Commission's Reference Information Center, located at the address of the FCC's main office indicated in 47 CFR 0.401(a), and is available from the sources listed in this paragraph (a). * * *

* * * * *

36. Amend § 25.254 by revising the fourth sentence of paragraph (c) to read as follows:

§ 25.254 Special requirements for ancillary terrestrial components operating in the 1610-1626.5 MHz/2483.5-2500 MHz bands.

* * * * *

(c) * * * Copies of this standard can be inspected at the Federal Communications Commission's Reference Information Center, located at the address of the FCC's main office indicated in 47 CFR 0.401(a), Tel: (202) 418-0270, or at the National Archives and Records Administration (NARA). * * *

* * * * *

37. Amend § 25.301 by revising the third sentence to read as follows:

§ 25.301 Satellite Emergency Notification Devices (SENDs).

* * * The document is available for inspection at the Federal Communications Commission's Reference Information Center, located at the address of the FCC's main office indicated in 47 CFR 0.401(a), Tel: (202) 418-0270. * * *

PART 27—MISCELLANEOUS WIRELESS COMMUNICATIONS SERVICES

38. The authority citation for part 27 continues to read as follows:

Authority: 47 U.S.C. 154, 301, 302a, 303, 307, 309, 332, 336, 337, 1403, 1404, 1451, and 1452, unless otherwise noted.

39. Amend § 27.6 by adding a heading for paragraph (a) and revising the seventh sentence of paragraph (a) introductory text and the fourth sentence of paragraph (c)(3) introductory text to read as follows:

§ 27.6 Service areas.

(a) Composition of service areas. * * * Maps of the EAs, MEAs, MSAs, RSAs, and REAGs are available on the FCC's website at www.fcc.gov/auctions through the “Maps” submenu.

* * * * *

(c) * * *

(3) * * * Maps of the EAGs and the Federal Register Notice that established the 172 Economic Areas (EAs) are available for public inspection and copying at the Federal Communications Commission's Reference Information Center, located at the address of the FCC's main office indicated in 47 CFR 0.401(a). * * *

* * * * *

40. Amend § 27.73 by revising the seventh sentence of paragraph (a) to read as follows:

§ 27.73 WCS, AMT, and Goldstone coordination requirements.

* * * * *

(a) * * * You may inspect a copy at the Federal Communications Commission's Reference Information Center, located at the address of the FCC's main office indicated in 47 CFR 0.401(a), Tel: (202) 418-0270, or at the National Archives and Records Administration (NARA). * * *

* * * * *

41. Amend § 27.1310 by revising the second and third sentences of paragraph (a)(1) to read as follows:

§ 27.1310 Protection of Broadcast Television Service in the 600 MHz band from wireless operations.

(a) * * *

(1) * * * Copies of this document are available on the FCC's website. See https://www.fcc.gov/general/oet-bulletins-line.

* * * * *

PART 52—NUMBERING

42. The authority citation for part 52 continues to read as follows:

Authority: 47 U.S.C. 151, 152, 153, 154, 155, 201-205, 207-209, 218, 225-227, 251-252, 271, 332, unless otherwise noted.

43. Amend § 52.26 by revising the second sentence of paragraph (c) to read as follows:

§ 52.26 NANC Recommendations on Local Number Portability Administration.

* * * * *

(c) * * * Copies of the Working Group Report and its appendices can be inspected during normal business hours at the Federal Communications Commission's Reference Information Center, located at the address of the FCC's main office indicated in 47 CFR 0.401(a), or at the National Archives and Records Administration (NARA). * * *

PART 64—MISCELLANEOUS RULES RELATING TO COMMON CARRIERS

44. The authority citation for part 64 continues to read as follows:

Authority: 47 U.S.C. 154, 201, 202, 217, 218, 220, 222, 225, 226, 227, 227b, 228, 251(a), 251(e), 254(k), 262, 403(b)(2)(B), (c), 616, 620, 1401-1473, unless otherwise noted; Pub. L. 115-141, Div. P, sec. 503, 132 Stat. 348, 1091.

45. Amend § 64.621 by revising the second sentence of paragraph (c) introductory text and paragraph (c)(1) introductory text to read as follows:

§ 64.621 Interoperability and portability.

* * * * *

(c) * * * All approved material is available for inspection at the Federal Communications Commission's Reference Information Center, located at the address of the FCC's main office indicated in 47 CFR 0.401(a), Tel: (202) 418-0270, and is available from the sources indicated in this paragraph (c). * * *

(1) FCC (on behalf of SIP Forum), located at the address indicated in 47 CFR 0.401(a), Tel: (888) 225-5322 (voice), (844) 432-2275 (videophone), (888) 835-5322 (TTY).

* * * * *

46. Amend § 64.3100 by revising the third sentence of paragraph (c)(7) to read as follows:

§ 64.3100 Restrictions on mobile service commercial messages.

* * * * *

(c) * * *

(7) * * * The FCC's wireless domain names list will be available on the FCC's website and at the Commission headquarters, located at the address indicated in 47 CFR 0.401(a).

* * * * *

PART 67—REAL-TIME TEXT

47. The authority citation for part 67 continues to read as follows:

Authority: 47 U.S.C. 151-154, 225, 251, 255, 301, 303, 307, 309, 316, 615c, 616, 617.

48. Amend § 67.3 by revising the second sentence of paragraph (a) to read as follows:

§ 67.3 Incorporation by Reference.

(a) * * * All approved material is available for inspection at the Federal Communications Commission's Reference Information Center, located at the address of the FCC's main office indicated in 47 CFR 0.401(a), Tel: (202) 418-0270, and is available from the sources listed in this section. * * *

* * * * *

PART 68—CONNECTION OF TERMINAL EQUIPMENT TO THE TELEPHONE NETWORK

49. The authority citation for part 68 continues to read as follows:

Authority: 47 U.S.C. 154, 303, 610.

50. Amend § 68.160 by revising the fourth sentence of paragraph (d)(1) to read as follows:

§ 68.160 Designation of Telecommunication Certification Bodies (TCBs).

* * * * *

(d) * * *

(1) * * * All approved material is available for inspection at the Federal Communications Commission's Reference Information Center, located at the address of the FCC's main office indicated in 47 CFR 0.401(a), Tel: (202) 418-0270, and is available from the sources in this paragraph (d). * * *

* * * * *

51. Amend § 68.162 by revising the fourth sentence of paragraph (i) introductory text to read as follows:

§ 68.162 Requirements for Telecommunication Certification Bodies.

* * * * *

(i) * * * All approved material is available for inspection at the Federal Communications Commission's Reference Information Center, located at the address of the FCC's main office indicated in 47 CFR 0.401(a), Tel: (202) 418-0270, and is available from the sources in this paragraph (i). * * *

* * * * *

52. Amend § 68.317 by revising the second sentence of paragraph (i) introductory text to read as follows:

§ 68.317 Hearing aid compatibility volume control: technical standards.

* * * * *

(i) * * * All approved material is available for inspection at the Federal Communications Commission's Reference Information Center, located at the address of the FCC's main office indicated in 47 CFR 0.401(a), Tel: (202) 418-0270, and is available from the source indicated in this paragraph (i). * * *

* * * * *

PART 73—RADIO BROADCAST SERVICES

53. The authority citation for part 73 continues to read as follows:

Authority: 47 U.S.C. 154, 155, 301, 303, 307, 309, 310, 334, 336, 339.

54. Amend § 73.622 by revising the fifth sentence of paragraph (c)(1) and the third and fourth sentences of paragraph (e)(2) to read as follows:

§ 73.622 Digital television table of allotments.

* * * * *

(c)(1) * * * Copies of the Memorandum Opinion and Order may be inspected during normal business hours at the Federal Communications Commission's Reference Information Center, located at the address of the FCC's main office indicated in 47 CFR 0.401(a). * * *

* * * * *

(e) * * *

(2) * * * Copies of this document are available on the FCC's website. See https://www.fcc.gov/general/oet-bulletins-line.

* * * * *

55. Amend § 73.623 in paragraph (c)(2) introductory text by:

a. Removing “this paragraph” and adding “this paragraph (c)” in its place;

b. Removing “section 73.622(e)” and adding “§ 73.622(e)” in its place; and

c. Revising the fourth sentence of the paragraph.

The revision reads as follows:

§ 73.623 DTV applications and changes to DTV allotments.

* * * * *

(c) * * *

(2) * * * Copies of OET Bulletin No. 69 may be inspected during normal business hours at the Federal Communications Commission's Reference Information Center, located at the address of the FCC's main office indicated in 47 CFR 0.401(a). * * *

* * * * *

56. Amend § 73.683 in paragraph (d) by removing “Part 74” and adding “part 74” in its place and revising the fifth sentence to read as follows:

§ 73.683 Field strength contours and presumptive determination of field strength at individual locations.

* * * * *

(d) * * * OET Bulletin No. 72 and OET Bulletin No. 73 are available at the Federal Communications Commission's Reference Information Center, located at the address of the FCC's main office indicated in 47 CFR 0.401(a), or at the FCC's Office of Engineering and Technology (OET) website: http://www.fcc.gov/oet/info/documents/bulletins/.

* * * * *

57. Amend § 73.8000 by revising the fourth sentence of paragraph (a) and the introductory text of paragraph (d) to read as follows:

§ 73.8000 Incorporation by reference.

(a) * * * The materials are available for inspection at the Federal Communications Commission's Reference Information Center, located at the address of the FCC's main office indicated in 47 CFR 0.401(a), and at the National Archives and Records Administration (NARA). * * *

* * * * *

(d) The following materials are available at the Federal Communications Commission's Reference Information Center, located at the address of the FCC's main office indicated in 47 CFR 0.401(a), or at the FCC's Office of Engineering and Technology (OET) website: http://www.fcc.gov/oet/info/documents/bulletins/.

* * * * *

PART 74—EXPERIMENTAL RADIO, AUXILIARY, SPECIAL BROADCAST AND OTHER PROGRAM DISTRIBUTIONAL SERVICES

58. The authority citation for part 74 continues to read as follows:

Authority: 47 U.S.C. 154, 302a, 303, 307, 309, 310, 336 and 554.

59. Amend § 74.703 by revising the fifth sentence of paragraph (a) to read as follows:

§ 74.703 Interference.

(a) * * * Copies of OET Bulletin No. 69 may be inspected during normal business hours at the Federal Communications Commission's Reference Information Center, located at the address of the FCC's main office indicated in 47 CFR 0.401(a). * * *

* * * * *

60. Amend § 74.707 by revising the third sentence of paragraph (e) to read as follows:

§ 74.707 Low power TV and TV translator station protection.

* * * * *

(e) * * * Copies of OET Bulletin No. 69 may be inspected during normal business hours at the Federal Communications Commission's Reference Information Center, located at the address of the FCC's main office indicated in 47 CFR 0.401(a). * * *

61. Amend § 74.861 by revising the fourth sentence of paragraph (i) introductory text and removing the parenthetical authority citation at the end of the section to read as follows:

§ 74.861 Technical requirements.

* * * * *

(i) * * * All approved material is available for inspection at the Federal Communications Commission's Reference Information Center, located at the address of the FCC's main office indicated in 47 CFR 0.401(a), Tel: (202) 418-0270, and is available from the sources in this paragraph (i). * * *

* * * * *

PART 76—MULTICHANNEL VIDEO AND CABLE TELEVISION SERVICE

62. The authority citation for part 76 continues to read as follows:

Authority: 47 U.S.C. 151, 152, 153, 154, 301, 302, 302a, 303, 303a, 307, 308, 309, 312, 315, 317, 325, 338, 339, 340, 341, 503, 521, 522, 531, 532, 534, 535, 536, 537, 543, 544, 544a, 545, 548, 549, 552, 554, 556, 558, 560, 561, 571, 572, 573.

63. Amend § 76.501 by revising Note 5 to § 76.501 to read as follows:

§ 76.501 Cross-ownership.

* * * * *

Note 5 to § 76.501: Certifications pursuant to this section and these notes shall be sent to the attention of the Media Bureau, Federal Communications Commission, located at the address of the FCC's main office indicated in 47 CFR 0.401(a).

* * * * *

64. Amend § 76.503 by revising Note 1 to § 76.503 to read as follows:

§ 76.503 National subscriber limits.

* * * * *

Note 1 to § 76.503: Certifications made under this section shall be sent to the attention of the Media Bureau, Federal Communications Commission, located at the address of the FCC's main office indicated in 47 CFR 0.401(a).

* * * * *

65. Amend § 76.602 by revising the fourth sentence of paragraph (a) to read as follows:

§ 76.602 Incorporation by reference.

(a) * * * The materials are available for inspection at the Federal Communications Commission's Reference Information Center, located at the address of the FCC's main office indicated in 47 CFR 0.401(a), and at the National Archives and Records Administration (NARA). * * *

* * * * *

PART 79—ACCESSIBILITY OF VIDEO PROGRAMMING

66. The authority citation for part 79 continues to read as follows:

Authority: 47 U.S.C. 151, 152(a), 154(i), 303, 307, 309, 310, 330, 544a, 613, 617.

67. Amend § 79.3 by revising the second sentence of paragraph (e)(1) introductory text to read as follows:

§ 79.3 Video description of video programming.

* * * * *

(e) * * *

(1) * * * Complaints should be addressed to: Consumer and Governmental Affairs Bureau, located at the address of the FCC's main office indicated in 47 CFR 0.401(a). * * *

* * * * *

68. Amend § 79.100 by revising the fourth sentence of paragraph (a) to read as follows:

§ 79.100 Incorporation by reference.

(a) * * * The materials are available for purchase at the corresponding addresses as noted, and all are available for inspection at the Federal Communications Commission's Reference Information Center, located at the address of the FCC's main office indicated in 47 CFR 0.401(a), Tel: (202) 418-0270, and at the National Archives and Records Administration (NARA). * * *

* * * * *

PART 80—STATIONS IN THE MARITIME SERVICES

69. The authority citation for part 80 continues to read as follows:

Authority: 47 U.S.C. 151-155, 301-609; 3 U.S.T. 3450, 3 U.S.T. 4726, 12 U.S.T. 2377.

70. Amend § 80.7 by revising the fifth sentence of paragraph (a) to read as follows:

§ 80.7 Incorporation by reference.

(a) * * * Also it is available for inspection at the Federal Communications Commission's Reference Information Center, located at the address of the FCC's main office indicated in 47 CFR 0.401(a), and is available from the sources listed in this section.

* * * * *

71. Amend § 80.59 in paragraph (c)(2) by adding “of this chapter” at the end of the first sentence and revising the second sentence to read as follows:

§ 80.59 Compulsory ship inspections.

* * * * *

(c) * * *

(2) * * * Emergency requests must be filed with the Federal Communications Commission, Office of the Secretary, located at the address of the FCC's main office indicated in 47 CFR 0.401(a).

* * * * *

72. Amend § 80.371 in paragraph (c)(1)(ii) introductory text by:

a. Removing “this paragraph” and adding “this paragraph (c)(1)(ii)” in its place each time it appears;

b. Revising the fifth sentence of the paragraph; and

c. Removing “part 80” and adding “this part” in its place.

The revision reads as follows:

§ 80.371 Public correspondence frequencies.

* * * * *

(c) * * *

(1) * * *

(ii) * * * Maps of the EAs and VPCSAs are available for public inspection and copying at the Federal Communications Commission's Reference Information Center, located at the address of the FCC's main office indicated in 47 CFR 0.401(a), Tel: 1-888-225-5322. * * *

* * * * *

73. Amend § 80.385 in paragraph (a)(3) introductory text by removing “this paragraph” and adding “this paragraph (a)(3)” in its place each time it appears and revising the sixth sentence to read as follows:

§ 80.385 Frequencies for automated systems.

* * * * *

(a) * * *

(3) * * * Maps of the EAs and AMTSAs are available for public inspection and copying at the Federal Communications Commission's Reference Information Center, located at the address of the FCC's main office indicated in 47 CFR 0.401(a). * * *

* * * * *

PART 87—AVIATION SERVICES

74. The authority citation for part 87 continues to read as follows:

Authority: 47 U.S.C. 154, 303 and 307(e), unless otherwise noted.

75. Amend § 87.199 by revising the fourth sentence of paragraph (a) to read as follows:

§ 87.199 Special requirements for 406.0-406.1 MHz ELTs.

(a) * * * Copies of this standard can be inspected at the Federal Communications Commission's Reference Information Center, located at the address of the FCC's main office indicated in 47 CFR 0.401(a), Tel: (202) 418-0270, or at the National Archives and Records Administration (NARA). * * *

* * * * *

76. Amend § 87.285 by removing “of this chapter” in the first sentence and revising the sixth sentence to read as follows:

§ 87.285 Scope of service.

* * * You may inspect a copy at the Federal Communications Commission's Reference Information Center, located at the address of the FCC's main office indicated in 47 CFR 0.401(a), or at the National Archives and Records Administration (NARA). * * *

PART 90—PRIVATE LAND MOBILE RADIO SERVICES

77. The authority citation for part 90 continues to read as follows:

Authority: 47 U.S.C. 154(i), 161, 303(g), 303(r), 332(c)(7), 1401-1473.

78. Amend § 90.7 by revising the definitions of “900 MHz SMR MTA-based license or MTA license” and “EA-based or EA license” to read as follows:

§ 90.7 Definitions.

* * * * *

900 MHz SMR MTA-based license or MTA license. (1) A license authorizing the right to use a specified block of 900 MHz SMR spectrum within one of the 47 Major Trading Areas (“MTAs”), as embodied in Rand McNally's Trading Areas System MTA Diskette and geographically represented in the map contained in Rand McNally's Commercial Atlas & Marketing Guide (the “MTA Map”), with the following exceptions and additions:

(i) Alaska is separated from the Seattle MTA and is licensed separately.

(ii) Guam and the Northern Mariana Islands are licensed as a single MTA-like area.

(iii) Puerto Rico and the United States Virgin Islands are licensed as a single MTA-like area.

(iv) American Samoa is licensed as a single MTA-like area.

(2) The MTA map is available for public inspection at the Federal Communications Commission's Reference Information Center, located at the address of the FCC's main office indicated in 47 CFR 0.401(a).

* * * * *

EA-based or EA license. A license authorizing the right to use a specified block of SMR or LMS spectrum within one of the 175 Economic Areas (EAs) as defined by the Department of Commerce Bureau of Economic Analysis. The EA Listings and the EA Map are available for public inspection at the Federal Communications Commission's Reference Information Center, located at the address of the FCC's main office indicated in 47 CFR 0.401(a).

* * * * *

79. Amend § 90.20 by revising the fifth sentence of paragraph (g)(1) to read as follows:

§ 90.20 Public Safety Pool.

* * * * *

(g) * * *

(1) * * * You may inspect and copy maps of the EAs and VPCSAs at the Federal Communications Commission's Reference Information Center, located at the address of the FCC's main office indicated in 47 CFR 0.401(a). * * *

* * * * *

80. Amend § 90.265 by revising the fourth sentence of paragraph (f) introductory text and removing the parenthetical authority citation at the end of the section to read as follows:

§ 90.265 Assignment and use of frequencies in the bands allocated for Federal use.

* * * * *

(f) * * * All approved material is available for inspection at the Federal Communications Commission's Reference Information Center, located at the address of the FCC's main office indicated in 47 CFR 0.401(a), Tel: (202) 418-0270, and is available from the sources in this paragraph (f). * * *

* * * * *

81. Amend § 90.375 by revising the second sentence of note 1 to the table in paragraph (c) to read as follows:

§ 90.375 RSU license areas, communication zones and registrations.

* * * * *

(c) * * *

¹ * * * Copies may be inspected at the Federal Communications Commission's Reference Information Center, located at the address of the FCC's main office indicated in 47 CFR 0.401(a), or at the National Archives and Records Administration (NARA). * * *

82. Amend § 90.379 by revising the third sentence to read as follows:

§ 90.379 ASTM E2213-03 DSRC Standard (ASTM-DSRC Standard).

* * * Copies may be inspected at the Federal Communications Commission's Reference Information Center, located at the address of the FCC's main office indicated in 47 CFR 0.401(a), Tel: (202) 418-0270, or at the National Archives and Records Administration (NARA). * * *

83. Amend § 90.548 by revising the second sentence of paragraph (b) introductory text to read as follows:

§ 90.548 Interoperability Technical Standards.

* * * * *

(b) * * * Material incorporated by reference may be inspected at the Federal Communications Commission's Reference Information Center, located at the address of the FCC's main office indicated in 47 CFR 0.401(a), Tel: (202) 418-0270, or at the National Archives and Records Administration (NARA). * * *

* * * * *

84. Amend § 90.553 by:

a. Adding a period after “August 20, 2009” and revising the fifth sentence of paragraph (b); and

b. Revising the second sentence of paragraph (c).

The revisions read as follows:

§ 90.553 Encryption.

* * * * *

(b) * * * Material incorporated by reference may be inspected at the Federal Communications Commission's Reference Information Center, located at the address of the FCC's main office indicated in 47 CFR 0.401(a), Tel: (202) 418-0270, or at the National Archives and Records Administration (NARA). * * *

(c) * * * Copies of the standards listed in this section that are incorporated by reference may be inspected at the Federal Communications Commission's Reference Information Center, located at the address of the FCC's main office indicated in 47 CFR 0.401(a), Tel: (202) 418-0270, or at the National Archives and Records Administration (NARA). * * *

PART 95—PERSONAL RADIO SERVICES

85. The authority citation for part 95 continues to read as follows:

Authority: 47 U.S.C. 154, 303, 307.

86. Amend § 95.329 by revising the third sentence to read as follows:

§ 95.329 How to contact the FCC.

* * * To write the FCC about these services, address the Federal Communications Commission, Attention: Mobility Division, Wireless Telecommunications Bureau, at the address of the FCC's main office indicated in 47 CFR 0.401(a).

87. Amend § 95.2509 by revising the sixth sentence of paragraph (e)(2) to read as follows:

§ 95.2509 MBAN registration and frequency coordination.

* * *

(e) * * *

(2) * * * You may inspect a copy at the Federal Communications Commission's Reference Information Center, located at the address of the FCC's main office indicated in 47 CFR 0.401(a), Tel: (202) 418-0270, or at the National Archives and Records Administration (NARA). * * *

* * * * *

88. Amend § 95.2989 by revising the second sentence of paragraph (b) introductory text to read as follows:

§ 95.2989 PLB and MSLD technical standards.

* * * * *

(b) * * * All approved material is available for inspection at the Federal Communications Commission's Reference Information Center, located at the address of the FCC's main office indicated in 47 CFR 0.401(a), Tel: (202) 418-0270, and is available from the sources indicated in this paragraph (b). * * *

* * * * *

89. Amend § 95.3189 by revising the fourth sentence to read as follows:

§ 95.3189 OBU technical standard.

* * * The material is available for inspection at the Federal Communications Commission's Reference Information Center, located at the address of the FCC's main office indicated in 47 CFR 0.401(a), Tel: (202) 418-0270, and may be obtained from ASTM International, 100 Barr Harbor Drive, P.O. Box C700, West Conshohocken, PA 19428-2959. http://www.astm.org. * * *

PART 101—FIXED MICROWAVE SERVICES

90. The authority citation for part 101 continues to read as follows:

Authority: 47 U.S.C. 154, 303.

91. Amend § 101.523 by revising the first and fourth sentences of paragraph (a)(4) to read as follows:

§ 101.523 Service areas.

(a) * * *

(4) The Gulf of Mexico. * * * Maps of the EAs and the Federal Register Notice that established the 172 Economic Areas (EAs) are available for public inspection and copying at the Federal Communications Commission's Reference Information Center, located at the address of the FCC's main office indicated in 47 CFR 0.401(a). * * *

* * * * *

92. Amend § 101.705 by removing the second parenthetical sentence and adding a sentence in its place to read as follows:

§ 101.705 Special showing for renewal of common carrier station facilities using frequency diversity.

* * * This document is available at the library of the Federal Communications Commission, located at the address of the FCC's main office indicated in 47 CFR 0.401(a). * * *

[FR Doc. 2020-19544 Filed 10-9-20; 8:45 am]

BILLING CODE 6712-01-P